DEPARTMENT OF THE INTERIOR

Bureau of Land Management

[LLCO956000 L14400000.BJ0000 17X]

Notice of Filing of Plats of Survey; Colorado

AGENCY: Bureau of Land Management, Interior.

ACTION: Notice of Filing of Plats of Survey; Colorado.

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on November 7, 2016.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The plat and field notes of the dependent resurvey and survey in Township 16 South, Range 72 West, Sixth Principal Meridian, Colorado, were accepted on August 26, 2016.

The plat and field notes of the dependent resurvey and survey in Township 49 North, Range 9 West, New Mexico Principal Meridian, Colorado, were accepted on September 8, 2016.

The plat, in 2 sheets, and field notes of the dependent resurvey and survey in Township 49 North, Range 8 West, New Mexico Principal Meridian, Colorado, were accepted on September 20, 2016.

The supplemental plat of section 7 in Township 7 South, Range 73 West, Sixth Principal Meridian, Colorado, was accepted on September 27, 2016.

The plat and field notes of the dependent resurvey and survey in Township 36 North, Range 7 West, New Mexico Principal Meridian, Colorado, were accepted on September 28, 2016.

The plat and field notes of the dependent resurvey and survey in Township 37 North, Range 7 West, New Mexico Principal Meridian, Colorado, were accepted on September 28, 2016.

Randy A. Bloom,
Chief Cadastral Surveyor for Colorado.

[FR Doc. 2016-24326 Filed 10-6-16; 8:45 am]

BILLING CODE 4310-JB-P